DEPARTMENT OF HEALTH AND HUMAN SERVICES

National Institutes of Health

National Institutes of Allergy and Infectious Diseases; Amended Notice of Meeting

Notice is hereby given of a change in the meeting of the Secretary's Advisory Committee on Xenotransplantation, March 11-12, 2002, 8:00 am, Holiday Inn Select Bethesda, 8120 Wisconsin Avenue, Bethesda, MD, which was published in the Federal Register on February 19, 2002, 67 FR 7391.

In addition to the topics described in the earlier FR notice, on the second day of the meeting, March 12, the Committee will hear a presentation on, and then discuss, the FDA Draft Guidance for Industry: Precautionary Measures to Reduce the Possible Risk of Transmission of Zoonoses by Blood and Blood Products from Xenotransplantation Product Recipients and their Intimate Contacts.

Individuals who wish to provide public comment (oral or written) should contact the SACX Executive Director, Mary Groesch, by telephone at 301-496-0785 or e-mail at groeschm@od.nih.gov.

Dated: February 28, 2002.
LaVerne Y. Stringfield,
Director, Office of Federal Advisory Committee Policy.

[FR Doc. 02-5498 Filed 3-6-02; 8:45 am]

BILLING CODE 4140-01-M